DEPARTMENT OF LABOR

Occupational Safety and Health Administration

[Docket No. ICR-1218-0011(2002)]

Extension of the Office of Management and Budget's (OMB) Approval of Information-Collection (Paperwork) Requirements

AGENCY: Occupational Safety and Health Administration (OSHA), Labor.

ACTION: Request for comment.

SUMMARY: OSHA solicits comments concerning its proposal to decrease the existing burden-hour estimates for, and to extend OMB approval of, the information-collection requirements of subparts A and B of 29 CFR part 1915.¹ The paperwork requirements specified by subparts A and B ensures that confined and enclosed spaces and other dangerous atmospheres in shipyards are safe for employee entry, and protect shipyard employees from explosive, combustible, and toxic hazards contained in these spaces.

¹ Based on its assessment of the paperwork requirements contained in these subparts, the Agency estimates that the total burden hours decreased compared to its previous burden-hour estimate. Under this notice, OSHA is not proposing to revise these paperwork requirements in any substantive manner, only to decrease the burden hours imposed by the existing paperwork requirements.

DATES: Submit written comments on or before February 11, 2002.

ADDRESSES: Submit written comments to the Docket Office, Docket No. ICR-1218-0011(2002), OSHA, U.S. Department of Labor, Room N-2625, 200 Constitution Avenue, NW., Washington, DC 20210; telephone (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the information collections specified by subparts A and B of 29 CFR part 1915 is available for inspection and copying in the Docket Office, or by requesting a copy from Theda Kenney at (202) 693-2222, or Todd Owen at (202) 693-2444. For electronic copies of the ICR, contact OSHA on the Internet at http://www.osha.gov, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are understandable, and OSHA's estimate of the information-collection burden is correct.

In subpart A, paragraph (b) of § 1915.7 (“Competent Person”) specifies that employers must maintain a roster of designated competent persons (for inspecting and testing spaces covered by subpart B), or a statement that a marine chemist will perform these inspections and tests. Under paragraph (d) of this standard, employers must: Ensure that competent persons, marine chemists, and certified industrial hygienists make a record of each inspection and test they perform; post the record near the covered space while work is in progress; and file the record for a specified period. In addition, employers must make the roster or statement, and the inspection and test records, available to designated parties on request. Maintaining the required roster or statement as specified by paragraph (b) assures employees and OSHA that qualified competent persons are performing the inspections and tests. The recordkeeping requirement under paragraph (d) provides important information regarding the inspection and test results; this information allows employers to implement atmospheric controls and other safety procedures to furnish employees with a safe and healthful workplace, and permits employees and OSHA to determine the appropriateness of these controls and procedures.

Subpart B consists of several standards governing employee entry into confined and enclosed spaces and other dangerous atmospheres. These standards require employers to: Warn employees not to enter hazardous spaces and other dangerous atmospheres; exchange information regarding hazards, safety rules, and emergency procedures concerning these spaces and atmospheres with other employers whose employees may enter these spaces and atmospheres; post signs prohibiting ignition sources within or near a space that contains bulk quantities of flammable or combustible liquids or gases; ensure that a marine chemist or a U.S. Coast Guard authorized person tests and certifies confined and enclosed spaces and other dangerous atmospheres before performing hot work in these spaces and atmospheres; post this certificate in the immediate vicinity of the hot-work operation while the operation is in progress; and retain the certificate on file for at least three months after completing the operation. These paperwork requirements regulate employee entry into confined and enclosed spaces and other dangerous atmospheres located in shipyards, thereby preventing death or serious injury and illness that may result from employee exposure to the explosive, combustible, and toxic hazards contained in these spaces.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA is proposing to decrease the existing burden-hour estimate, and to extend OMB approval of, the collection-of-information requirements specified by subparts A and B. The Agency is proposing to decrease the current burden-hour estimate from 134,993 hours to 134,819 hours, a total decrease of 174 hours.

Type of Review: Extension of a currently-approved information-collection requirement.

Title: Subpart A (“General Provisions”) and Subpart B (“Confined and Enclosed Spaces and Other Dangerous Atmospheres in Shipyard Employment”) of 29 CFR part 1915.

OMB Number: 1218-0011.

Affected Public: Business or other for-profit; Federal government; State, local, or tribal governments.

Number of Respondents: 300.

Frequency of Recordkeeping: On occasion; other (daily).

Average Time per Response: Varies from two minutes (.03 hour) to 10 minutes (.17 hour).

Total Annual Hours Requested: 134,819.

Total Annual Costs (O&M): $0.

IV. Authority and Signature

John L. Henshaw, Assistant Secretary of Labor for Occupational Safety and Health, directed the preparation of this notice. The authority for this notice is the Paperwork Reduction Act of 1995 (44 U.S.C. 3506), and Secretary of Labor's Order No. 3-2000 (62 FR 50017).

Signed at Washington, DC, on December 6th, 2001.
John L. Henshaw,
Assistant Secretary of Labor.

[FR Doc. 01-30729 Filed 12-11-01; 8:45 am]

BILLING CODE 4510-26-M